DEPARTMENT OF HEALTH AND HUMAN SERVICES

Administration for Children and Families

Proposed Information Collection Activity; Comment Request

Proposed Projects

Title: Evaluation of the Early Head Start Enhanced Home Visiting Pilot Project.

OMB No.: New Collection.

Description: The Head Start Reauthorization Act of 1994 established a special initiative creating funding for services for families with infants and toddlers. In response, the Administration on Children, Youth and Families (ACYF) within the Administration for Children and Families (ACF) developed the Early Head Start program. Since its inception, Early Head Start has expanded to include more than 700 programs and 70,000 families enrolled nationwide. The program is designed to produce outcomes in four domains: (1) Child development, (2) family development, (3) staff development, and (4) community development. The Head Start Bureau has given programs a mandate to support the quality of all settings where children receive care by providing high-quality services and supporting parents and child care providers in caring for their young children.

In keeping with this mandate, the Head Start Bureau recently funded 24 Early Head Start programs to participate in the Enhanced Home Visiting Pilot Project. The goal of the pilot project is to develop program models for supporting relatives and neighbors who care for Early Head Start children in acquiring the knowledge, skills and resources they need to support children's healthy development.

The Enhanced Home Visiting Pilot Project evaluation will collect and disseminate information about the program models and service delivery strategies developed by the pilot sites, as well as the characteristics and needs of participating children, families, and caregivers. The evaluation will collect and analyze information from three main sources: (1) Interviews with staff and focus groups with parents and cargivers to be conducted during two rounds of visits to pilot programs (in spring 2005 and 2006), (2) a program recordkeeping system for tracking services to be maintained by the pilot sites, and (3) observational assessments of the quality of the caregiving environment and the interactions between children and caregivers to be conducted in spring 2006. All data collection instruments have been designed to minimize the burden on respondents by minimizing the time required to respond. Participation in the study is voluntary.

The results of the research will be used by the Head Start Bureau and ACF to identify and disseminate information about promising program models and service delivery strategies and lessons learned from the experiences of the pilot programs.

Respondents: Early Head Start directors, coordinators, specialists, and home visitors; staff from other community service providers; parents of Early Head Start children; and neighbor and relative caregivers of Early Head Start children.

Annual Burden Estimates

Estimated Response Burden for Respondents for the Enhanced Home Visiting Pilot Evaluation
Instrument | Number of respondents | Number of responses per respondent | Average burden per response (hours) | Annual burden (hours)
Site Visit Protocols (2005):
Director Protocol | 24 | 1 | 3.0 | 72.0
Coordinator/Specialist Protocol | 24 | 1 | 1.5 | 36.0
Community Partner Protocol | 24 | 1 | 1.5 | 36.0
Home Visitor Protocol | 48 | 1 | 1.5 | 72.0
Parent Protocol | 192 | 1 | 1.5 | 288.0
Caregiver Protocol | 192 | 1 | 1.5 | 288.0
Case Review Protocol | 48 | 1 | 3.0 | 144.0
Recordkeeping System (2005) | 24 | ᵃ 27 | ᵇ 2.0 | 1,296.0
Total for 2005 |  |  |  | 2,232.0
Site Visit Protocol (2006):
Director Telephone Protocol | 24 | 1 | 1.0 | 24.0
Director Protocol | 12 | 1 | 3.0 | 36.0
Coordinator/Specialist Protocol | 12 | 1 | 1.5 | 18.0
Community Partner Protocol | 12 | 1 | 1.5 | 18.0
Home Visitor Protocol | 24 | 1 | 1.5 | 36.0
Parent Protocol | 96 | 1 | 1.5 | 144.0
Case Review Protocol | 24 | 1 | 3.0 | 72.0
Recordkeeping System (2006) | 24 | ᵃ 27 | ᵇ 1.0 | 648.0
Caregiver Observations (2006) | 96 | 1 | 2.5 | 240.0
Total for 2006 |  |  |  | 1,236.0
Total for 2005 and 2006 |  |  |  | 3,468.0
Estimated Average Annual Burden Hours |  |  |  | 1,734.0
ᵃ Average expected number of children to be enrolled in the pilot per site. Expected enrollment ranges from 7 to 60 across the 24 sites.
ᵇ Based on an estimated burden of 10 minutes per child per month.

In compliance with the requirements of section 3506(C)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Offices. E-mail address: rsargis@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 13, 2004.
Robert Sargis,
Reports Clearance Officer.

[FR Doc. 04-27583 Filed 12-16-04; 8:45 am]

BILLING CODE 4184-01-M